DEPARTMENT OF AGRICULTURE

Foreign Agricultural Service

Trade Adjustment Assistance for Farmers

AGENCY: Foreign Agricultural Service, USDA.

ACTION: Notice.

The Administrator, Foreign Agricultural Service (FAS), today accepted a petition filed by three Florida avocado producers for trade adjustment assistance. The Administrator will determine within 40 days whether or not increasing imports of avocados contributed importantly to a decline in domestic producer prices of 20 percent or more during the marketing period beginning January 2004 and ending December 2004. If the determination is positive, all producers who produce and market their avocados in Florida will be eligible to apply to the Farm Service Agency for technical assistance at no cost and for adjustment assistance payments.

FOR FURTHER INFORMATION CONTACT: Jean-Louis Pajot, Coordinator, Trade Adjustment Assistance for Farmers, FAS, USDA, (202) 720-2916, e-mail: trade.adjustment@fas.usda.gov.

Dated: February 25, 2005.
A. Ellen Terpstra,
Administrator, Foreign Agricultural Service.

[FR Doc. 05-4445 Filed 3-7-05; 8:45 am]

BILLING CODE 3410-10-P